DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Sumter County, Alabama, and Incorporated Areas
Docket No.: FEMA-B-1110
Factory Creek (backwater effects from Tombigbee River) | From the confluence with the Tombigbee River to approximately 1,600 feet upstream of County Road 21 | +115 | Unincorporated Areas of Sumter County.
Fenache Creek (backwater effects from Tombigbee River) | From the confluence with the Tombigbee River to approximately 0.5 mile downstream of County Road 4 | +126 | Unincorporated Areas of Sumter County.
Folsum Branch (backwater effects from Tombigbee River) | From the confluence with the Tombigbee River to approximately 500 feet upstream of Fulson Brand Road | +120 | Town of Gainesville.
High Run (backwater effects from Tombigbee River) | From the confluence with the Tombigbee River to approximately 2.3 miles upstream of the confluence with the Tombigbee River | +103 | Unincorporated Areas of Sumter County.
Jones Creek (backwater effects from Tombigbee River) | From the confluence with the Tombigbee River to approximately 2,100 feet upstream of County Road 20 | +114 | Town of Epes.
Noxubee River (backwater effects from Tombigbee River) | From the confluence with the Tombigbee River to approximately 7.3 miles upstream of County Road 85 | +122 | Unincorporated Areas of Sumter County.
Sandy Creek | Approximately 1 mile downstream of Alabama Highway 28 | +115 | Unincorporated Areas of Sumter County.
| Approximately 1,673 feet downstream of East Park Road | +117
Sucarnoochee River | Approximately 1.6 miles downstream of the railroad | +115 | Unincorporated Areas of Sumter County.
| Approximately 1.4 miles upstream of U.S. Route 11 | +120
Tombigbee River | Approximately 29.4 miles downstream of U.S. Route 11 | +95 | Town of Epes.
| Approximately 12.7 miles upstream of the Gainesville Dam | +130
Tombigbee River Tributary 13 (backwater effects from Tombigbee River) | From the confluence with the Tombigbee River to approximately 585 feet downstream of Unnamed Road | +108 | Unincorporated Areas of Sumter County.
Tombigbee River Tributary 16 (backwater effects from Tombigbee River) | From the confluence with the Tombigbee River to approximately 740 feet downstream of Port of Epes Highway | +113 | Unincorporated Areas of Sumter County.
Tombigbee River Tributary 7 (backwater effects from Tombigbee River) | From the confluence with the Tombigbee River to approximately 1.2 miles downstream of Pine Top Road | +96 | Unincorporated Areas of Sumter County.
Tombigbee River Tributary 8 (backwater effects from Tombigbee River) | From the confluence with the Tombigbee River to approximately 0.6 mile upstream of Trails End Road | +101 | Unincorporated Areas of Sumter County.
Toomsuba Creek | Approximately 0.7 mile downstream of the railroad | +148 | Unincorporated Areas of Sumter County.
| Approximately 750 feet upstream of U.S. Route 11 | +164
Whiterock Creek (backwater effects from Sucarnoochee River) | From the confluence with the Sucarnoochee River to approximately 1,073 feet downstream of Arrington Street | +116 | Unincorporated Areas of Sumter County.
* National Geodetic Vertical Datum.
+ North American Vertical Datum.
# Depth in feet above ground.
‸ Mean Sea Level, rounded to the nearest 0.1 meter.
ADDRESSES
Town of Epes
Maps are available for inspection at 40 Carrol Street, Epes, AL 35464.
Town of Gainesville
Maps are available for inspection at 9380 State Street, Gainesville, AL 35464.
Unincorporated Areas of Sumter County
Maps are available for inspection at 318 Washington Street, Livingston, AL 35470.
El Dorado County, California, and Incorporated Areas
Docket No.: FEMA-B-1171
Bijou Creek | Approximately 100 feet upstream of the Lake Tahoe confluence | +6234 | City of South Lake Tahoe.
| Approximately 550 feet upstream of Pioneer Trail | +6347
Trout Creek | Approximately 1,750 feet upstream of the Lake Tahoe confluence | +6234 | City of South Lake Tahoe, Unincorporated Areas of El Dorado County.
| Approximately 1,580 feet downstream of Martin Avenue | +6251
Upper Truckee River | Approximately 1,400 feet downstream of Lake Tahoe Boulevard | +6241 | City of South Lake Tahoe, Unincorporated Areas of El Dorado County.
| Approximately 1.44 miles upstream of Lake Tahoe Boulevard | +6251
* National Geodetic Vertical Datum.
+ North American Vertical Datum.
# Depth in feet above ground.
‸ Mean Sea Level, rounded to the nearest 0.1 meter.
ADDRESSES
City of South Lake Tahoe
Maps are available for inspection at 1900 Lake Tahoe Boulevard, South Lake Tahoe, CA 96150.
Unincorporated Areas of El Dorado County
Maps are available for inspection at 2850 Fairlane Court, Placerville, CA 95667.
East Feliciana Parish, Louisiana, and Incorporated Areas
Docket No.: FEMA-B-1085
Amite River | Approximately 2.0 miles downstream of State Highway 37 | +110 | Unincorporated Areas of East Feliciana Parish.
| Just downstream from the northeast corner of the Amite County, Mississippi, line | +205
Pretty Creek | Flooding effects from Pretty Creek extending 1.0 mile west and 1.0 mile east from the confluence with the Comite River | +170 | Unincorporated Areas of East Feliciana Parish.
| Flooding effects from Pretty Creek extending 1.5 mile west from State Highway 10 | +183
* National Geodetic Vertical Datum.
+ North American Vertical Datum.
# Depth in feet above ground.
‸ Mean Sea Level, rounded to the nearest 0.1 meter.
ADDRESSES
Unincorporated Areas of East Feliciana Parish
Maps are available for inspection at 12064 Marston Street, Clinton, LA 70722.
Livingston Parish, Louisiana, and Incorporated Areas
Docket No.: FEMA-B-7771
Lake Maurepas—Entire Shoreline | Highest elevation approximately 40,800 feet south of the confluence with the Amite River | +9 | Unincorporated Areas of Livingston Parish.
| Highest elevation at the confluence with the Tickfaw River | +10
* National Geodetic Vertical Datum.
+ North American Vertical Datum.
# Depth in feet above ground.
‸ Mean Sea Level, rounded to the nearest 0.1 meter.
ADDRESSES
Unincorporated Areas of Livingston Parish
Maps are available for inspection at 29261 Frost Road, Livingston, LA 70754.
Tuscola County, Michigan (All Jurisdictions)
Docket No.: FEMA-B-1133
Cass River | Approximately 180 feet downstream of the CSX Railroad crossing | +634 | City of Vassar, Township of Tuscola, Township of Vassar.
| At Kirk Road, extended | +638
Cat Lake/South Drain | Approximately 110 feet downstream of Harmon Lake Road | +747 | Township of Dayton.
| At Cat Lake, approximately 280 feet upstream of Lakeview Drive | +749
Gibson Drain | Approximately 2,680 feet north of Don Road | +585 | Township of Gilford.
| Approximately 1,160 feet south of M-138 | +585
McPherson Drain | At Akron Road | +585 | Township of Gilford.
| Approximately 260 feet north of Dutcher Road | +585
Northwest Drain Outlet No. 1 | At the confluence with VCCM and S Drain | +585 | Township of Gilford.
| Approximately 500 feet downstream of North Quanicassee Road | +585
Reese Drain | Upstream of Reese Road, approximately 310 feet south of Dixon Road | +603 | Township of Denmark, Village of Reese.
| Downstream of Reese Road, approximately 2,600 feet south of M-81 | +625
Saginaw Bay | Entire shoreline within community | +585 | Township of Akron, Township of Wisner.
VCCM and S Drain | Approximately 300 feet north of M-138 | +585 | Township of Gilford.
| At Akron Road | +585
Wiscoggin Drain | At Loomis Road | +585 | Township of Columbia.
| Approximately 380 feet upstream of Loomis Road | +585
* National Geodetic Vertical Datum.
+ North American Vertical Datum.
# Depth in feet above ground.
‸ Mean Sea Level, rounded to the nearest 0.1 meter.
ADDRESSES
City of Vassar
Maps are available for inspection at City Hall, 287 East Huron Street, Vassar, MI 48768.
Township of Akron
Maps are available for inspection at 6649 North Vassar Road, Unionville, MI 48767.
Township of Columbia
Maps are available for inspection at the Columbia Township Library, 6456 Center Street, Unionville, MI 48767.
Township of Dayton
Maps are available for inspection at 4879 Hurds Corner Road, Mayville, MI 48744.
Township of Denmark
Maps are available for inspection at 9386 West Saginaw Street, Reese, MI 48757.
Township of Gilford
Maps are available for inspection at 171 Garner Road, Fairgrove, MI 48733.
Township of Tuscola
Maps are available for inspection at 8561 Van Cleve Road, Tuscola, MI 48769.
Township of Vassar
Maps are available for inspection at 4505 West Saginaw Road, Vassar, MI 48768.
Township of Wisner
Maps are available for inspection at 7894 M-25, Akron, MI 48701.
Village of Reese
Maps are available for inspection at 2073 Gates Street, Reese, MI 48757.
Washtenaw County, Michigan (All Jurisdictions)
Docket Nos.: FEMA-B-7774, FEMA-B-1100, and FEMA-B-1179
Allen Creek | Just downstream of Conrail Railroad | +769 | City of Ann Arbor.
| Approximately 500 feet upstream of East Madison Street | +820
Allen Creek Diversion | Just upstream of Miller Road | +795 | City of Ann Arbor.
| Just downstream of Ann Arbor Railroad | +801
Huron River | Approximately 620 feet downstream of the railroad | +718 | Township of Superior.
| Approximately 630 feet upstream of Superior Road | +719
Huron River | Just upstream of Whitmore Lake Road | +775 | Village of Barton Hills.
| Approximately 1,700 feet downstream of Foster Road | +798
Letts Creek | At the confluence with North Fork Mill Creek | +890 | Township of Lima.
| Just upstream of Pierce Road | +928
Mill Creek | At the mouth of the Huron River | +838 | Township of Lima, Township of Scio, Township of Webster, Village of Dexter.
| Just upstream of North Parker Road | +863
Millers Creek | Just upstream of Geddes Road | +752 | City of Ann Arbor, Charter Township of Ann Arbor.
| Approximately 2,000 feet upstream of Baxter Road | +883
Millers Creek Diversion | Just upstream of the confluence with Millers Creek | +753 | City of Ann Arbor.
| Just downstream of the diversion from Millers Creek | +771
North Fork Mill Creek | Approximately 800 feet downstream of Fletcher Road | +885 | Township of Lima, Township of Sylvan, City of Chelsea.
| Approximately 300 feet upstream of Conway Road | +934
North Lake | Entire shoreline within community | +939 | Township of Lyndon.
Paint Creek | At the Monroe County boundary | +652 | Township of Augusta.
| Just downstream of East Bemis Road | +692
River Raisin | Approximately 0.5 mile upstream of State Highway 52 | +880 | Township of Manchester.
| Approximately 0.6 mile upstream of State Highway 52 | +880
Saline River | Approximately 0.5 mile downstream of Macon Road | +736 | Township of Saline.
| Approximately 1,500 feet upstream of Macon Road | +775
Swift Drain | At the mouth of the Huron River | +754 | Charter Township of Ann Arbor, Charter Township of Pittsfield, City of Ann Arbor, City of Chelsea.
| Just upstream of East Morgan Road | +831
Traver Creek | At the mouth of the Huron River | +763 | Charter Township of Ann Arbor, City of Ann Arbor.
| Approximately 2,000 feet upstream of Warren Road (just upstream of U.S. Route 23 southbound) | +935
Traver Creek Diversion | At the confluence with Traver Creek | +901 | City of Ann Arbor.
| At the diversion from Traver Creek | +907
Tributary To Paint Creek | Approximately 2,400 feet downstream of Munger Road | +773 | Charter Township of Pittsfield, Charter Township of Ypsilanti.
| Just downstream of Merritt Road | +821
West Branch Paint Creek | Just upstream of the confluence with Paint Creek | +675 | Township of Augusta.
| Just downstream of East Bemis Road | +698
West Park Miller Drain | Just upstream of the confluence with Allen Creek | +801 | City of Ann Arbor.
| Just downstream of Wesley Avenue | +845
West Park Miller Drain South Branch | At the confluence with West Park Miller Drain | +806 | City of Ann Arbor.
| Approximately 60 feet downstream of North Revena Boulevard | +851
Wood Outlet Drain | Approximately 0.6 mile upstream of U.S. Route 12 | +759 | Township of Lodi.
| Just upstream of Saline Waterworks | +792
* National Geodetic Vertical Datum.
+ North American Vertical Datum.
# Depth in feet above ground.
‸ Mean Sea Level, rounded to the nearest 0.1 meter.
ADDRESSES
Charter Township of Ann Arbor
Maps are available for inspection at 3792 Pontiac Trail, Ann Arbor, MI 48105.
Charter Township of Pittsfield
Maps are available for inspection at 6201 West Michigan Avenue, Ann Arbor, MI 48108.
Charter Township of Ypsilanti
Maps are available for inspection at 7200 South Huron River Drive, Ypsilanti, MI 48197.
City of Ann Arbor
Maps are available for inspection at 100 North 5th Avenue, Ann Arbor, MI 48104.
City of Chelsea
Maps are available for inspection at 104 East Middle Street, Chelsea, MI 48118.
Township of Augusta
Maps are available for inspection at 605 South Main, Whittaker, MI 48190.
Township of Lima
Maps are available for inspection at 11452 Jackson Road, Chelsea, MI 48118.
Township of Lodi
Maps are available for inspection at 3755 Pleasant Lake Road, Ann Arbor, MI 48103.
Township of Lyndon
Maps are available for inspection at 17751 North Territorial Road, Chelsea, MI 48118.
Township of Manchester
Maps are available for inspection at 275 South Macomb Street, Manchester, MI 48158.
Township of Saline
Maps are available for inspection at 5731 Braun Road, Saline, MI 48176.
Township of Scio
Maps are available for inspection at 2355 West Stadium Boulevard, Ann Arbor, MI 48107.
Township of Superior
Maps are available for inspection at 3040 North Prospect Road, Ypsilanti, MI 48198.
Township of Sylvan
Maps are available for inspection at 18027 Old U.S. Route 12, Chelsea, MI 48118.
Township of Webster
Maps are available for inspection at 5665 Webster Church Road, Dexter, MI 48130.
Village of Barton Hills
Maps are available for inspection at 199 Barton Shore Drive, Ann Arbor, MI 48105.
Village of Dexter
Maps are available for inspection at 6880 Dexter-Pinckney Road, Dexter, MI 48130.
Meeker County, Minnesota, and Incorporated Areas
Docket No.: FEMA-B-1169
Jewett Creek | At the upstream side of State Highway 24 | +1105 | Unincorporated Areas of Meeker County.
| Approximately 676 feet downstream of Sibley Avenue | +1105
Lake Ripley/East Lake Ripley | Entire shoreline within community | +1128 | Unincorporated Areas of Meeker County.
* National Geodetic Vertical Datum.
+ North American Vertical Datum.
# Depth in feet above ground.
‸ Mean Sea Level, rounded to the nearest 0.1 meter.
ADDRESSES
Unincorporated Areas of Meeker County
Maps are available for inspection at the Meeker County Courthouse, 325 Sibley Avenue North, Litchfield, MN 55355.
Rice County, Minnesota, and Incorporated Areas
Docket No.: FEMA-B-1078
Cannon River | Approximately 4,460 feet downstream of Hester Street/County Highway 1 | +912 | City of Morristown, City of Northfield, Unincorporated Areas of Rice County.
| At State Highway 60/Morristown Boulevard | +1003
Spring Creek | Approximately 60 feet upstream of North Dennison Road/County Highway 28 | +945 | City of Northfield, Unincorporated Areas of Rice County.
| Approximately 740 feet upstream of Ford Street | + 970
* National Geodetic Vertical Datum.
+ North American Vertical Datum.
# Depth in feet above ground.
‸ Mean Sea Level, rounded to the nearest 0.1 meter.
ADDRESSES
City of Morristown
Maps are available for inspection at City Hall, 402 Central Avenue, Morristown, MN 55052.
City of Northfield
Maps are available for inspection at City Hall, 801 Washington Street, Northfield, MN 55057.
Unincorporated Areas of Rice County
Maps are available for inspection at the Rice County Government Services Building, 320 Northwest 3rd Street, Faribault, MN 55021.
Haywood County, North Carolina, and Incorporated Areas
Docket Nos.: FEMA-B-7765 and FEMA-B-7790
Allen Creek | At the confluence with Richland Creek | +2741 | Town of Waynesville, Unincorporated Areas of Haywood County.
| Approximately 0.6 mile upstream of New Allens Creek Road (State Road 1147) | +3093
Beaverdam Creek | At the confluence with the Pigeon River | +2587 | Town of Canton, Unincorporated Areas of Haywood County.
| Just downstream of Smathers Cove Road (State Road 1614) | +2712
Big Creek | At the confluence with the Pigeon River | +1409 | Unincorporated Areas of Haywood County.
| Approximately 120 feet upstream of Mount Sterling Road (State Road 1397) | +1547
Browning Branch | At the confluence with Richland Creek | +2708 | Town of Waynesville, Unincorporated Areas of Haywood County.
| Approximately 650 feet upstream of Browning Branch Road (State Road 1142) | +3054
Campbell Creek | At the confluence with Jonathan Creek | +3003 | Town of Maggie Valley, Unincorporated Areas of Haywood County.
| Approximately 1,000 feet upstream of Campbell Creek Road (State Road 1214) | +3362
Cataloochee Creek | At the confluence with the Pigeon River | +2272 | Unincorporated Areas of Haywood County.
| Approximately 3.5 miles upstream of the confluence with the Pigeon River | +2458
Cove Creek (into Fines Creek) | At the confluence with Fines Creek | +2473 | Unincorporated Areas of Haywood County.
| Approximately 0.9 mile upstream of the confluence with Fines Creek | +2576
Cove Creek (into Jonathan Creek) | At the confluence with Jonathan Creek | +2475 | Unincorporated Areas of Haywood County.
| Approximately 100 feet upstream of Sutton Town Road (State Road 1331) | +2654
Dix Creek | At the confluence with the East Fork Pigeon River | +2700 | Unincorporated Areas of Haywood County.
| Approximately 440 feet upstream of Dix Creek Road (State Road 1106) | +3281
East Fork Pigeon River | At the confluence with the Pigeon River | +2650 | Unincorporated Areas of Haywood County.
| Approximately 1.4 miles upstream of Camp Hope Road (State Road 1892) | +3282
Farmers Branch | At the confluence with Richland Creek | +2671 | Town of Waynesville.
| Approximately 860 feet upstream of Hazelwood Avenue | +2729
Fines Creek | At the confluence with the Pigeon River | +2275 | Unincorporated Areas of Haywood County.
| Approximately 1,300 feet upstream of Wayward Cove | +2597
Hemphill Creek | Approximately 300 feet upstream of the confluence with Jonathan Creek | +2588 | Unincorporated Areas of Haywood County.
| Approximately 100 feet upstream of Hemphill Road (State Road 1313) | +2793
Hominy Creek | At the Buncombe County boundary | +2250 | Town of Canton, Unincorporated Areas of Haywood County.
| Approximately 80 feet upstream of U.S. Route 19 | +2407
Hyatt Creek | At the confluence with Richland Creek | +2758 | Town of Waynesville, Unincorporated Areas of Haywood County.
| Approximately 160 feet upstream of Hyatt Creek Road (State Road 1168) | +2857
Jonathan Creek | At the confluence with the Pigeon River | +2373 | Town of Maggie Valley, Unincorporated Areas of Haywood County.
| Approximately 500 feet downstream of Black Camp Gap Road (State Road 1300) | +3512
Lake Junaluska | Entire shoreline | +2566 | Unincorporated Areas of Haywood County.
Little East Fork Pigeon River | Approximately 100 feet upstream of the confluence with the West Fork Pigeon River | +2835 | Unincorporated Areas of Haywood County.
| Approximately 290 feet upstream of Little East Fork Road (State Road 1129) | +3062
North Hominy Creek | At the confluence with Hominy Creek | +2392 | Town of Canton, Unincorporated Areas of Haywood County.
| Approximately 0.3 mile upstream of Peaceful Path | +2709
Pigeon River | At the confluence of Big Creek | +1409 | Town of Canton, Town of Clyde, Unincorporated Areas of Haywood County.
| At the confluence of the East Fork Pigeon River and West Fork Pigeon River | +2650
Pigeon River Tributary (Waterville Lake) | At the confluence with the Pigeon River | +2595 | Town of Canton, Unincorporated Areas of Haywood County.
| Approximately 950 feet upstream of Pruett Ridge | +2676
Plott Creek | Approximately 200 feet upstream of the confluence with Richland Creek | +2702 | Town of Waynesville, Unincorporated Areas of Haywood County.
| Approximately 650 feet upstream of Serenity Mountain Road | +3225
Raccoon Creek | At the confluence with Richland Creek | +2576 | Town of Waynesville.
| Approximately 1,040 feet upstream of Test Farm Road (State Road 1810) | +2652
Richland Creek | At the confluence with the Pigeon River | +2506 | Town of Waynesville, Unincorporated Areas of Haywood County.
| Approximately 440 feet upstream of U.S. Route 23 | +3057
Rush Fork | At the confluence with the Pigeon River | +2458 | Unincorporated Areas of Haywood County.
| Approximately 1,380 feet upstream of Palmer Pond Road | +2588
Shallow Flooding Area | Northeast intersection of the railroad and Lea Plant Road | #3 | Town of Waynesville.
| Approximately 100 feet northeast of Elysinia Avenue and Hazelwood Avenue intersection | #3
Shelton Creek | At the confluence with Richland Creek | +2610 | Town of Waynesville.
| Approximately 500 feet upstream of U.S. Route 276 | +2660
Thickety Creek | Approximately 900 feet upstream of the confluence with the Pigeon River | +2556 | Unincorporated Areas of Haywood County.
| Approximately 70 feet upstream of Incinerator Road (State Road 1550) | +2573
West Fork Pigeon River | At the confluence with the Pigeon River and East Fork Pigeon River | +2650 | Unincorporated Areas of Haywood County.
| Approximately 2.3 miles upstream of Steel Bridge Road (State Road 1216) | +3170
* National Geodetic Vertical Datum.
+ North American Vertical Datum.
# Depth in feet above ground.
‸ Mean Sea Level, rounded to the nearest 0.1 meter.
ADDRESSES
Town of Canton
Maps are available for inspection at the Town Hall, 58 Park Street, Canton, NC 28716.
Town of Clyde
Maps are available for inspection at the Town Hall, 8437 Carolina Boulevard, Clyde, NC 28721.
Town of Maggie Valley
Maps are available for inspection at the Town Hall, 3987 Soco Road, Maggie Valley, NC 28751.
Town of Waynesville
Maps are available for inspection at the Town Hall, 16 South Main Street, Waynesville, NC 28786.
Unincorporated Areas of Haywood County
Maps are available for inspection at the Haywood County Planning Office, 1233 North Main Street, Waynesville, NC 28786.
Garvin County, Oklahoma, and Incorporated Areas
Docket Nos.: FEMA-B-1045 and FEMA-B-1147
Beef Creek | Approximately 350 feet upstream of the confluence with the Washita River | +924 | Unincorporated Areas of Garvin County.
| Just downstream of East 1520 Road | +956
Rush Creek | Approximately 0.6 mile downstream of the railroad | +856 | Unincorporated Areas of Garvin County.
| Approximately 1.46 miles upstream of I-35 | +890
Washita River | Approximately 1,000 feet upstream of the confluence with Keel Sandy Creek | +852 | Unincorporated Areas of Garvin County.
| Approximately 0.84 mile upstream of the confluence with Rounds Creek | +981
* National Geodetic Vertical Datum.
+ North American Vertical Datum.
# Depth in feet above ground.
‸ Mean Sea Level, rounded to the nearest 0.1 meter.
ADDRESSES
Unincorporated Areas of Garvin County
Maps are available for inspection at 201 West Grant Avenue, Pauls Valley, OK 73075.
Grady County, Oklahoma, and Incorporated Areas
Docket No.: FEMA-B-1085
Congo Creek | At the confluence with the Washita River | +1078 | City of Chickasha, Unincorporated Areas of Grady County.
| Just upstream of Grand Avenue | +1117
Line Creek | At the confluence with the Washita River | +1085 | City of Chickasha, Unincorporated Areas of Grady County.
| Just downstream of U.S. Route 62 | +1099
Line Creek Split | Just upstream of Burlington Northern Railroad | +1093 | City of Chickasha, Unincorporated Areas of Grady County.
| At the confluence with Line Creek | +1099
Washita River | Approximately 1.98 miles downstream of the confluence with the Congo River | +1078 | City of Chickasha, Unincorporated Areas of Grady County.
| Approximately 0.81 mile upstream of N2840 | +1095
* National Geodetic Vertical Datum.
+ North American Vertical Datum.
# Depth in feet above ground.
‸ Mean Sea Level, rounded to the nearest 0.1 meter.
ADDRESSES
City of Chickasha
Maps are available for inspection at City Hall, 101 North 6th Street, Chickasha, OK 73018.
Unincorporated Areas of Grady County
Maps are available for inspection at the Grady County Floodplain Management Board, 315 West Pennsylvania Avenue, Chickasha, OK 73092.
Greer County, Oklahoma, and Incorporated Areas
Docket No.: FEMA-B-1158
Lake Altus | Entire shoreline within community | +1555 | Town of Granite, Unincorporated Areas of Greer County.
* National Geodetic Vertical Datum.
+ North American Vertical Datum.
# Depth in feet above ground.
‸ Mean Sea Level, rounded to the nearest 0.1 meter.
ADDRESSES
Town of Granite
Maps are available for inspection at the Town Hall, 420 North Main Street, Granite, OK 73547.
Unincorporated Areas of Greer County
Maps are available for inspection at the Greer County Courthouse, 106 East Jefferson Street, Mangum, OK 73554.
Rogers County, Oklahoma, and Incorporated Areas
Docket Nos.: FEMA-B-1022 and FEMA-B-1089
Elm Creek | Approximately 1,590 feet downstream of the confluence of Pine Valley Tributary and Elm Creek | +623 | City of Owasso, Unincorporated Areas of Rogers County.
| Approximately 1,920 feet upstream of the confluence of Lake Valley Tributary and Elm Creek | +685
Pine Valley Tributary | Approximately 165 feet upstream of the confluence of Elm Creek and Pine Valley Tributary | +626 | City of Owasso, Unincorporated Areas of Rogers County.
| Approximately 83 feet upstream of East 96th Street North | +679
Spunky Creek | Approximately 568 feet downstream of I-44 | +580 | Town of Fair Oaks.
| Approximately 1,036 feet upstream of I-44 | +580
Spunky Creek Tributary | At the confluence with Spunky Creek | +580 | Town of Fair Oaks.
| Approximately 866 feet upstream of the confluence with Spunky Creek | +580
Verdigris River and flooding effects of the Verdigris River | Approximately 1,080 feet downstream of the confluence with Unnamed Stream | +580 | Town of Fair Oaks.
| Approximately 621 feet downstream of the confluence with Unnamed Stream | +580
Tributary B | At North 145 East Avenue and Tributary B | +630 | Unincorporated Areas of Rogers County.
| Approximately 2,750 feet downstream from North 193th East Avenue | +750
Tributary F | At the confluence of Tributary F and Elm Creek | +632 | Unincorporated Areas of Rogers County.
| Approximately 133 feet downstream of North 161st East Avenue | +667
Tributary G | At the confluence of Elm Creek and Tributary G | +648 | Unincorporated Areas of Rogers County.
| Approximately 2,581 feet downstream of North 177th East Avenue | +686
Tributary G-1 | At the confluence of Tributary G and Tributary G-1 | +663 | Unincorporated Areas of Rogers County.
| Approximately 1,643 feet downstream of North 177th East Avenue | +688
Tributary H | At the confluence of Tributary H and Elm Creek | +647 | Unincorporated Areas of Rogers County.
| Approximately 158 feet upstream of East 116th Street North | +699
* National Geodetic Vertical Datum.
+ North American Vertical Datum.
# Depth in feet above ground.
‸ Mean Sea Level, rounded to the nearest 0.1 meter.
ADDRESSES
Town of Fair Oaks
Maps are available for inspection at 219 South Missouri Street, Claremore, OK 74017.
City of Owasso
Maps are available for inspection at 301 West 2nd Avenue, Owasso, OK 74055.
Unincorporated Areas of Rogers County
Maps are available for inspection at 219 South Missouri Street, Claremore, OK 74017.
Washita County, Oklahoma, and Incorporated Areas
Docket No.: FEMA-B-1158
Cobb Creek | Approximately 0.9 mile downstream of Seger Street | +1449 | Cheyenne and Arapaho Tribes of Oklahoma, Unincorporated Areas of Washita County.
| Approximately 250 feet upstream of North 2420 Road | +1470
North Cavalry Creek | Approximately 100 feet downstream of East 1210 Road | +1470 | Unincorporated Areas of Washita County.
| Approximately 675 feet upstream of North 2230 Road | +1574
Tributary No. 1 of North Cavalry Creek | At the confluence with North Cavalry Creek | +1487 | Unincorporated Areas of Washita County.
| Approximately 550 feet downstream of Cavalry Creek Dam 24 | +1566
Tributary No. 1 of Tributary No. 1 of North Cavalry Creek | Approximately 1,000 feet upstream of the confluence with Tributary No. 1 of North Cavalry Creek | +1535 | Unincorporated Areas of Washita County.
| Approximately 850 feet upstream of East 14th Street | +1562
* National Geodetic Vertical Datum.
+ North American Vertical Datum.
# Depth in feet above ground.
‸ Mean Sea Level, rounded to the nearest 0.1 meter.
ADDRESSES
Cheyenne and Arapaho Tribes of Oklahoma
Maps are available for inspection at the Cheyenne and Arapaho Tribes of Oklahoma Executive Office, 100 Red Moon Circle, Concho, OK 73022.
Unincorporated Areas of Washita County
Maps are available for inspection at the Washita County Courthouse, 111 East Main Street, New Cordell, OK 73632.
Indiana County, Pennsylvania (All Jurisdictions)
Docket No.: FEMA-B-1130
Conemaugh River | Approximately 1.74 miles downstream of Front Street | +996 | Township of Burrell.
| Approximately 1.7 miles downstream of Front Street | +997
Crooked Creek | Approximately 1,700 feet upstream of Fulton Run Road | +1025 | Township of White.
| Approximately 0.56 mile upstream of Fulton Run Road | +1026
Dixon Run | Approximately 1,051 feet downstream of Brocious Road | +1317 | Township of Rayne.
| Approximately 355 feet downstream of Brocious Road | +1321
Two Lick Creek | Approximately 0.85 mile downstream of Franklin Street | +1208 | Township of Cherryhill.
| Approximately 630 feet upstream of the confluence with Buck Run | +1228
Whites Run | Approximately 435 feet upstream of Chestnut Street | +1278 | Township of White.
| Approximately 495 feet upstream of Chestnut Street | +1278
* National Geodetic Vertical Datum.
+ North American Vertical Datum.
# Depth in feet above ground.
‸ Mean Sea Level, rounded to the nearest 0.1 meter.
ADDRESSES
Township of Burrell
Maps are available for inspection at the Burrell Township Building, 321 Park Drive, Black Lick, PA 15716.
Township of Cherryhill
Maps are available for inspection at the Cherryhill Township Building, 184 Spaulding Road, Penn Run, PA 15765.
Township of Rayne
Maps are available for inspection at the Rayne Township Building, 140 Tanoma Road, Home, PA 15747.
Township of White
Maps are available for inspection at the White Township Building, 1412 Park Drive, Clarksburg, PA 15725.
Cass County, Texas, and Incorporated Areas
Docket No.: FEMA-B-1114
Black Bayou | Just upstream of FM 251 | +227 | Unincorporated Areas of Cass County.
| Approximately 1 mile upstream of U.S. Route 59 | +237
Hurricane Creek | Approximately 250 feet upstream of East Pinecrest Drive | +237 | Unincorporated Areas of Cass County.
| Just downstream of North Holly Street | +269
South Tributary to Black Bayou | At the confluence with Black Bayou | +228 | Unincorporated Areas of Cass County.
| Approximately 800 feet downstream of Salmon Road | +239
* National Geodetic Vertical Datum.
+ North American Vertical Datum.
# Depth in feet above ground.
‸ Mean Sea Level, rounded to the nearest 0.1 meter.
ADDRESSES
Unincorporated Areas of Cass County
Maps are available for inspection at the Cass County Courthouse, 604 State Highway 8 North, Linden, TX 75563.
Medina County, Texas, and Incorporated Areas
Docket No.: FEMA-B-1065
Burnt Boot Creek | Approximately 1,570 feet downstream of the intersection of Thompson Avenue | +634 | City of Devine, Unincorporated Areas of Medina County.
| Approximately 0.54 mile upstream of the intersection of RM 92 | +700
Chacon Creek | Approximately 1.46 miles downstream of the intersection of Highway 81 | +660 | City of Natalia, Unincorporated Areas of Medina County.
| Approximately 698 feet upstream of the intersection of RM 139 | +717
East Branch of Live Oak Creek | Approximately 2.28 miles downstream of the intersection of U.S. Route 90 | +847 | City of Hondo, Unincorporated Areas of Medina County.
| Approximately 2.02 miles upstream of the intersection of U.S. Route 90 | +913
Elm Slough | Approximately 1.13 miles downstream of CR 446 | +803 | City of Hondo, Unincorporated Areas of Medina County.
| Approximately 1,987 feet upstream of CR 443 | +888
Flat Creek | Approximately 2.4 miles downstream of the intersection of U.S. Route 90 | +720 | City of Castroville, Unincorporated Areas of Medina County.
| Approximately 1.7 miles upstream of the intersection of U.S. Route 90 | +784
Fort Ewell Creek | Just upstream of the confluence of Chacon Creek | +694 | City of Natalia, Unincorporated Areas of Medina County.
| Just downstream of the intersection of RM 136 | +701
Hondo Creek | Approximately 0.5 mile downstream of CR 4526 | +839 | Unincorporated Areas of Medina County.
| Approximately 1.29 miles upstream of Vandenburg Road | +917
Hondo Creek Tributary | Approximately 873 feet downstream of State Highway 173 | +862 | Unincorporated Areas of Medina County.
| Approximately 0.62 mile upstream of State Highway 173 | +878
Kempf Creek | Just upstream of the confluence of the Medina River | +758 | City of Castroville, Unincorporated Areas of Medina County.
| Approximately 215 feet downstream of the intersection of FM 471 | +778
Little Live Oak Creek and flooding effects | Approximately 1.41 miles downstream of intersection of CR 532 | +812 | City of Hondo, Unincorporated Areas of Medina County.
| Approximately 1,011 feet upstream of 19th Street | +897
Little Sous Creek | Approximately 4,009 feet downstream of the intersection of U.S. Route 90 | +737 | Unincorporated Areas of Medina County.
| Approximately 2.2 miles upstream of the intersection of U.S. Route 90 | +827
Medina River | Approximately 0.6 mile downstream of the intersection of Lacoste Road | +689 | City of Castroville, Unincorporated Areas of Medina County.
| Approximately 1.8 miles upstream of the confluence of Kempf Creek | +767
Parkers Creek | Approximately 2.71 miles downstream of the intersection of FM 2200 | +826 | Unincorporated Areas of Medina County.
| Approximately 1.61 miles upstream of the intersection of U.S. Route 90 | +914
Polecat Creek | Approximately 0.55 mile downstream of the intersection of Dhanis Street | +708 | City of Lacoste, Unincorporated Areas of Medina County.
| Approximately 503 feet upstream of the intersection of FM 471 | +722
San Fransisco Perez Creek | Approximately 0.49 mile downstream of the intersection of RM 101 | +646 | City of Devine, Unincorporated Areas of Medina County.
| Approximately 1.1 miles upstream of the intersection of RM 90 | +699
Seco Creek | Approximately 5.94 miles downstream of the intersection of CR 512 | +838 | Unincorporated Areas of Medina County.
| Approximately 4.1 miles upstream of the intersection of CR 428 | +935
South Fork San Geronimo Creek | Approximately 786 feet downstream of the confluence of Unnamed Tributary 1 of South Fork San Geronimo Creek | +1324 | Unincorporated Areas of Medina County.
| Approximately 947 feet upstream of the confluence of Unnamed Tributary 2 of South Fork San Geronimo Creek | +1407
South Polecat Creek | Approximately 0.42 mile downstream of the intersection of Dhanis Street | +708 | City of Lacoste, Unincorporated Areas of Medina County.
| Approximately 0.44 mile upstream of the intersection of Contis Avenue | +730
Tehuacana Creek | Approximately 1.24 miles downstream of the confluence of East Tehuacana Creek | +623 | Unincorporated Areas of Medina County.
| Just downstream of the confluence of West Fork Tehuacana Creek | +660
Unnamed Tributary 1 to San Geronimo Creek | Approximately 1.4 miles upstream of the confluence of San Geronimo Creek | +1360 | Unincorporated Areas of Medina County.
| Approximately 2.6 miles upstream of the confluence of San Geronimo Creek | +1465
Unnamed Tributary 1 to Southfork of San Geronimo Creek | Just upstream of the confluence of South Fork San Geronimo Creek | +1345 | Unincorporated Areas of Medina County.
| Approximately 1,844 feet upstream of the confluence of South Fork San Geronimo Creek | +1371
Unnamed Tributary 2 of South Fork San Geronimo Creek | Just upstream of the confluence of South Fork San Geronimo Creek | +1401 | Unincorporated Areas of Medina County.
| Approximately 1,069 feet upstream of the confluence of South Fork San Geronimo Creek | +1412
Unnamed Tributary 2 to San Geronimo Creek | Approximately 779 feet upstream of the intersection of RT 37 | +1295 | Unincorporated Areas of Medina County.
| Approximately 0.65 mile upstream of the intersection of RT 37 | +1339
Unnamed Tributary to Medina Diversion Reservoir | Approximately 1,514 feet downstream of the confluence of Unnamed Tributary to Unnamed Tributary to Medina Diversion Reservoir | +1159 | Unincorporated Areas of Medina County.
| Approximately 1.4 miles upstream of the confluence of Unnamed Tributary to Unnamed Tributary to Medina Diversion Reservoir | +1242
Unnamed Tributary to Unnamed Tributary to Medina Diversion Reservoir | Just upstream of the confluence of Unnamed Tributary to Medina Diversion Reservoir | +1173 | Unincorporated Areas of Medina County.
| Approximately 0.8 mile upstream of the confluence of Unnamed Tributary to Medina Diversion Reservoir | +1264
West Branch Little Live Oak Creek | Approximately 0.57 mile downstream of the intersection of CR 532 | +832 | City of Hondo, Unincorporated Areas of Medina County.
| Approximately 0.39 mile upstream of the intersection of CR 530 | +885
West Fork Tehuacana Tributary | Just upstream of the confluence of West Fork Tehuacana Creek | +668 | Unincorporated Areas of Medina County.
| Approximately 0.62 mile upstream of CR 732 | +699
West Prong Atascosa River | Approximately 295 feet downstream of the intersection of Main Street | +693 | City of Lytle, Unincorporated Areas of Medina County.
| Just downstream of the intersection of CR 681 | +715
West Tehuacana Creek | Just upstream of the confluence of Tehuacana Creek | +662 | Unincorporated Areas of Medina County.
| Approximately 1,258 feet upstream of the intersection of CR 732 | +707
* National Geodetic Vertical Datum.
+ North American Vertical Datum.
# Depth in feet above ground.
‸ Mean Sea Level, rounded to the nearest 0.1 meter.
ADDRESSES
City of Castroville
Maps are available for inspection at 703 Paris Street, Castroville, TX 78009.
City of Devine
Maps are available for inspection at 303 South Teel Drive, Devine, TX 78016.
City of Hondo
Maps are available for inspection at 1600 Avenue M, Hondo, TX 78861.
City of Lacoste
Maps are available for inspection at 16004 South Front Street, LaCoste, TX 78039.
City of Lytle
Maps are available for inspection at 19325 FM 2790, Lytle, TX 78052.
City of Natalia
Maps are available for inspection at 300 3rd Street, Natalia, TX 78059.
Unincorporated Areas of Medina County
Maps are available for inspection at 709 Avenue Y, Hondo, TX 78861.

(Catalog of Federal Domestic Assistance No. 97.022, “Flood Insurance.”)

Dated: March 21, 2012.
Sandra K. Knight,
Deputy Associate Administrator for Mitigation, Department of Homeland Security, Federal Emergency Management Agency.

[FR Doc. 2012-7688 Filed 3-29-12; 8:45 am]

BILLING CODE 9110-12-P